DEPARTMENT OF EDUCATION

Applications for New Awards; Technical Assistance and Dissemination To Improve Services and Results for Children With Disabilities—Model Demonstration Projects for Early Identification of Students With Dyslexia in Elementary School

AGENCY: Office of Special Education and Rehabilitative Services, Department of Education.

ACTION: Notice.

SUMMARY: The mission of the Office of Special Education and Rehabilitative Services (OSERS) is to improve early childhood, educational, and employment outcomes and raise expectations for all people with disabilities, their families, their communities, and the Nation. As such, the Department of Education (Department) is issuing a notice inviting applications for new awards for fiscal year (FY) 2019 for Model Demonstration Projects for Early Identification of Students with Dyslexia in Elementary School, Catalog of Federal Domestic Assistance (CFDA) number 84.326M. These projects will provide support to professionals to collaborate with parents in establishing and meeting high expectations for each student with, or at risk for, dyslexia. This notice relates to the approved information collection under OMB control number 1820-0028.

DATES: Applications Available: July 5, 2019.

Deadline for Transmittal of Applications: August 5, 2019.

Pre-Application Webinar Information: No later than July 10, 2019, OSERS will post pre-recorded informational webinars designed to provide technical assistance to interested applicants. The webinars may be found at www2.ed.gov/fund/grant/apply/osep/new-osep-grants.html.

Pre-Application Q&A Blog: No later than July 10, 2019, OSERS will open a blog where interested applicants may post questions about the application requirements for this competition and where OSERS will post answers to the questions received. OSERS will not respond to questions unrelated to the application requirements for this competition. The blog may be found at www2.ed.gov/fund/grant/apply/osep/new-osep-grants.html and will remain open until July 24, 2019. After the blog closes, applicants should direct questions to the person listed under FOR FURTHER INFORMATION CONTACT.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Kristen Rhoads, U.S. Department of Education, 400 Maryland Avenue SW, Room 5175, Potomac Center Plaza, Washington, DC 20202-5076. Telephone: (202) 245-6715. Email: Kristen.Rhoads@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the Technical Assistance and Dissemination to Improve Services and Results for Children with Disabilities program is to promote academic achievement and to improve results for children with disabilities by providing TA, supporting model demonstration projects, disseminating useful information, and implementing activities that are supported by scientifically based research.

Priority: In accordance with 34 CFR 75.105(b)(2)(v), this priority is from allowable activities specified in or otherwise authorized in sections 663 and 681(d) of the Individuals with Disabilities Education Act (IDEA) (20 U.S.C. 1463, 1481(d)).

Absolute Priority: For FY 2019 and any subsequent year in which we make awards from the list of unfunded applications from this competition, this priority is an absolute priority. Under 34 CFR 75.105(c)(3), we consider only applications that meet this priority.

This priority is:

Model Demonstration Projects for Early Identification of Students with Dyslexia in Elementary School.

Background: Model demonstrations to improve early intervention, educational, or transitional results for students with disabilities have been authorized under the IDEA since the law's inception. For the purposes of this priority, a model is a set of existing evidence-based practices, including interventions and implementation strategies (i.e., core model components), that research suggests will improve outcomes for children, teachers, instructional personnel, school or district leaders, or systems, when implemented with fidelity. Model demonstrations involve investigating the degree to which a given model can be implemented and sustained in typical settings, by staff employed in those settings, while achieving outcomes similar to those attained under research conditions.

Patterns of reading development and potential achievement are established early and can be stable over time. Frequent screening and progress monitoring of reading skills are recommended for identifying students whose early pattern suggests that they need intensive reading intervention and prevention (Gersten et al., 2009). The screening supports meeting an individual child's needs by tailoring instructional activities and helping to identify students who may be at risk for dyslexia. These students may benefit from receiving intensive intervention in reading and potentially special education services, including evidence-based practices to address the individual needs of each student with dyslexia.

Dyslexia is neurobiological in origin and is typically characterized by difficulties with phonological processing (i.e., the manipulation of sounds), spelling, and/or rapid visual-verbal responding (U.S. Department of Health and Human Services, 2018). It is possible to identify students with dyslexia in early elementary school, and it is critical that schools implement intensive interventions tailored to the individual needs of these students in early elementary school and beyond (Petscher et al., 2019). Phonological processing problems associated with dyslexia can be identified reliably in kindergarten and first grade (D. Fuchs et al., 2012; Sittner Bridges & Catts, 2011). Research suggests that difficulties associated with dyslexia can be remediated with intensive intervention in early elementary school; however, remediation generally becomes less effective for students with dyslexia after second grade (Fletcher, 2017).

Over 40 States have adopted legislation, requirements, or initiatives related to identifying and educating students with dyslexia, with 21 States implementing universal screening for dyslexia (National Center on Improving Literacy, 2018). Recommended practices suggest that schools administer reading measures that screen and monitor student progress in learning foundational reading skills that reflect students' acquisition of literacy skills across grade levels (Petchser, et al., 2019). In general, measures of phonological processing, rapid letter naming, and alphabetic understanding or spelling are recommended in the early elementary grades. Recommended practices also suggest that administration of screening measures should not be a one-time event for students; rather, screening should happen at least three times per year at each grade level during elementary school, with the first administration happening as early as possible in the school year, with more frequent administrations for students who show moderate or high risk of having dyslexia.

However, addressing dyslexia is a complex issue, and there are great variation and flexibility in how States and schools implement recommended practices related to screening for dyslexia. Often, schools use a one-stage universal screening process, which may result in incorrect over-identification of students in the early grades when students are first exposed to formal reading instruction (D. Fuchs, Compton, Fuchs, Bryant & Davis, 2008). Researchers have suggested other approaches, including using a two-stage screening approach or dynamic assessment approaches, to maximize the likelihood of providing intensive interventions in reading to students who need it most and to prevent schools from using costly interventions for students who may not have dyslexia or need additional or different types of support (Cho et al., 2017). In conjunction with the screening practices, schools often monitor student learning in response to high-quality reading instruction or intervention as indicators of progress or persistent learning problems related to having dyslexia.

These model demonstration projects will highlight the importance of accurate identification of students with dyslexia, particularly in the early grades, and bring to bear the most recent research on frequent screening and progress monitoring and intervention for dyslexia.

The projects must be operated in a manner consistent with nondiscrimination requirements contained in the U.S. Constitution and the Federal civil rights laws.

Priority

The purpose of this priority is to fund three cooperative agreements to establish and operate model demonstration projects. The models will implement frequent screening and progress monitoring measures at all elementary grades, with a particular focus on kindergarten and first grade. The models will demonstrate methods for accurate and efficient identification of and evidence-based ¹ interventions for students with, or at risk for, dyslexia, as well as positive outcomes in reading achievement. The models will also address the infrastructure (i.e., professional development) needed to foster the development, implementation, and evaluation of a schoolwide process for identifying students with, or at risk for, dyslexia. The model demonstration projects will assess how models can—

¹ For purposes of this priority, “evidence-based” means the proposed project component is supported by promising evidence, which is evidence of the effectiveness of a key project component in improving a “relevant outcome” (as defined in 34 CFR 77.1), based on a relevant finding from one of the sources identified under “promising evidence” in 34 CFR 77.1.

• Improve the capacity of elementary schools to identify early, accurately, and efficiently students with, or at risk for, dyslexia;

• Improve the capacity of elementary schools to implement evidence-based screening and progress monitoring measures for students with, or at risk for, dyslexia;

• Improve the capacity of elementary schools to provide resources and evidence-based interventions that best meet the individual needs of students with, or at risk for, dyslexia and that lead to improved reading achievement of students with, or at risk for, dyslexia; and

• Improve the capacity of elementary school personnel to clearly communicate assessment results to parents and to collaborate with parents to establish and meet high expectations for each student with, or at risk for, dyslexia.

Applicants must propose models that meet the following requirements:

(a) The model's core intervention components must include—

(1) Ongoing measures of student reading skills and progress, including frequent (e.g., weekly or every two weeks) measures of reading skills of students with, or at risk for, dyslexia;

(2) Professional development to help ensure educators' appropriate and timely use of data to inform the need for additional diagnostic measures or assessments for students demonstrating risk of dyslexia and to improve reading instruction and make informed decisions about how to help students build literacy skills;

(3) Evidence-based instructional practices tailored to individual needs of students, particularly to those with, or at risk for, dyslexia;

(4) Valid and reliable measures of student-level, instructor-level, and system-level outcomes, using standardized measures when applicable;

(5) Procedures to refine the model based on the ongoing measures of student-level, instructor-level, and system-level performance;

(6) Procedures for schools to share data with families as well as engage families in meaningful discussions and decision-making related to reading instruction tailored to meeting their child's individual literacy needs; and

(7) Measures of the model's social validity, i.e., measures of educators', parents', and students' ² satisfaction with the model components, processes, and outcomes.

² Applicants must ensure the confidentiality of individual student data, consistent with the Confidentiality of Information regulations under both part B and part C of IDEA, which incorporate requirements and exceptions under section 444 of the General Education Provisions Act (20 U.S.C. 1232g), commonly known as the “Family Educational Rights and Privacy Act” (FERPA), but also include several provisions that are specifically related to children with disabilities receiving services under IDEA and provide protections beyond the FERPA regulations. Therefore, examining the IDEA requirements first is the most effective and efficient way to meet the requirements of both IDEA and FERPA for children with disabilities. Applicants should also be aware of State laws or regulations concerning the confidentiality of individual records. See https://www2.ed.gov/policy/gen/guid/ptac/pdf/idea-ferpa.pdf and https://studentprivacy.ed.gov/resources/ferpaidea-cross-walk. Final FERPA regulatory changes became effective January 3, 2012, and include requirements for data sharing. Applicants are encouraged to review the final FERPA regulations published on December 2, 2011 (76 FR 75604). Questions can be directed to the Family Policy Compliance Office (www.ed.gov/fpco) at (202) 260-3887 or FERPA@ed.gov.

(b) The model's core implementation components must include—

(1) Criteria and strategies for selecting ³ and recruiting sites, including approaches to introducing the model to, and promoting the model among, site participants.⁴ Each project must include at least three elementary schools, at least one of which must be a school of choice such as a public magnet, public charter, or private school. Applicants are encouraged to choose sites from a variety of settings (e.g., urban, rural, suburban) and populations (e.g., type of school, concentration of students receiving free or reduced-price lunch, racial or ethnic groups);

³ For factors to consider when selecting model demonstration sites, the applicant should refer to Assessing Sites for Model Demonstration: Lessons Learned for OSEP Grantees at http://mdcc.sri.com/documents/MDCC_Site_Assessment_Brief_09-30-11.pdf. The document also contains a site assessment tool.

⁴ For factors to consider while preparing for model demonstration implementation, the applicant should refer to Preparing for Model Demonstration Implementation at http://mdcc.sri.com/documents/MDCC_PreparationStage_Brief_Apr2013.pdf.

(2) A lag site implementation design, which allows for model development and refinement at the first site in year one of the project period, with sites two and three implementing a revised model based on data from the first site beginning in subsequent project years;

(3) A professional development component that includes a coaching strategy, to enable site-based staff to implement the interventions with fidelity; and

(4) Measures of the results of the professional development (e.g., improvements in teachers' or service providers' knowledge) required by paragraph (b)(3) of this section, including measures of the fidelity of implementation.

(c) The core strategies for sustaining the model must include—

(1) Documentation that permits current and future site-based staff to replicate or appropriately tailor and sustain the model at any site; ⁵

⁵ For a guide on documenting model demonstration sustainment and replication, the applicant should refer to Planning for Replication and Dissemination From the Start: Guidelines for Model Demonstration Projects (Revised) at http://mdcc.sri.com/documents/MDCC_ReplicationBrief_SEP2015.pdf.

(2) Strategies for the grantee to disseminate or promote the use of the model, such as developing easily accessible online training materials, coordinating with TA providers who might serve as future trainers, or providing technical support (e.g., webinars, training sessions, or workshops) for users who may want to learn about and implement the model and its components; and

(3) Strategies for the grantee to assist State educational agencies (SEAs) and local educational agencies (LEAs) within the State to scale up a model and its components.

To be considered for funding under this absolute priority, applicants must meet the application requirements contained in this priority. Each project funded under this absolute priority also must meet the programmatic and administrative requirements specified in the priority.

Application Requirements

An applicant must include in its application—

(a) A detailed review of the literature addressing the proposed model or its intervention and implementation components and processes to improve identification and instruction for students with, or at risk for, dyslexia in elementary school, with a particular focus on kindergarten and first grade;

Note: The literature review must establish that the proposed model is evidence-based, as defined elsewhere in this notice.

(b) A logic model ⁶ that depicts, at a minimum, the goals, activities, outputs, and outcomes (described in paragraph (a) under the heading Priority) of the proposed model demonstration project.

⁶ Logic model (also referred to as a theory of action) means a framework that identifies key project components of the proposed project (i.e., the active “ingredients” that are hypothesized to be critical to achieving the relevant outcomes) and describes the theoretical and operational relationships among the key project components and relevant outcomes.

Note: The following websites provide resources for constructing logic models: www.osepideasthatwork.org/logicModel and www.osepideasthatwork.org/resources-grantees/program-areas/ta-ta/tad-project-logic-model-and-conceptual-framework;

(c) A description of the activities and measures to be incorporated into the proposed model demonstration project (i.e., the project design) to improve identification of and instruction for students with, or at risk for, dyslexia, including a timeline of how and when the components are introduced within the model. A detailed and complete description must include the following:

(1) Each of the intervention components, including, at a minimum, those listed under paragraph (a) under the heading Priority.

(2) The existing and proposed child, teacher, service provider, or system outcome measures and social validity measures. The measures should be described as completely as possible, referenced as appropriate, and included, when available, in Appendix A.

(3) Each of the implementation components, including, at a minimum, those listed under paragraph (b) under the heading Priority. The existing or proposed implementation fidelity measures, including those measuring the fidelity of the professional development strategy, should be described as completely as possible, referenced as appropriate, and included, when available, in Appendix A. In addition, this description should include—

(i) Demographics, including, at a minimum, the number of grade levels, classrooms, and students participating at all implementation sites that have been identified and successfully recruited for the purposes of this application using the selection and recruitment strategies described in paragraph (b)(1) under the heading Priority;

(ii) Whether the implementation sites are located in rural, urban, or suburban LEAs; and

Note: Applicants are encouraged to identify, to the extent possible, the sites willing to participate in the applicant's model demonstration. Applicants are encouraged to choose sites from a variety of settings (e.g., urban, rural, suburban) and populations (e.g., type of school, concentration of students receiving free or reduced-price lunch, racial or ethnic groups). Final site selection will be determined in consultation with the OSEP project officer following the kick-off meeting described in paragraph (e)(1) of these application requirements, and will include at least one school of choice such as a public magnet, public charter, or private school.

(iii) The lag site implementation design for implementation consistent with the requirements in paragraph (b)(2) under the heading Priority.

(4) Each of the strategies to promote sustaining and replicating the model, including, at a minimum, those listed under paragraph (c) under the heading Priority.

(d) A description of the evaluation activities and measures to be incorporated into the proposed model demonstration project. A detailed and complete description must include—

(1) A formative evaluation plan, consistent with the project's logic model, that includes evaluation questions, source(s) of data, a timeline for data collection, and analysis plans. The plan must show how the outcome data (e.g., child, teacher, or systems measures, social validity) and implementation data (e.g., fidelity, effectiveness of professional development activities) will be used separately or in combination to improve the project during the performance period. These data will be reported in the annual performance report (APR). The plan also must outline how these data will be reviewed by project staff, when they will be reviewed, and how they will be used during the course of the project to adjust the model or its implementation to increase the model's usefulness, generalizability, and potential for sustainability; and

(2) A summative evaluation plan, including a timeline, to collect and analyze data on changes to child, teacher, service provider, or system outcome measures over time or relative to comparison groups that can be reasonably attributable to project activities. The plan must show how the child, teacher, service provider, or system outcome and implementation data collected by the project will be used separately or in combination to demonstrate the promise of the model.

(e) A budget for attendance at the following:

(1) A one and one-half day kick-off meeting to be held in Washington, DC, after receipt of the award.

(2) A three-day Project Directors' Conference in Washington, DC, occurring twice during the project performance period.

(3) Four travel days spread across years two through four of the project period to attend planning meetings, Department briefings, Department-sponsored conferences, and other meetings, as requested by OSEP, to be held in Washington, DC.

Other Project Activities

To meet the requirements of this priority, each project, at a minimum, must—

(a) Communicate and collaborate on an ongoing basis with other Department-funded projects, including, at minimum, OSEP-funded TA centers that might disseminate information on the model or support the scale-up efforts of a model based on promising evidence;

(b) Maintain ongoing telephone and email communication with the OSEP project officer and the other model demonstration projects funded under this priority;

(c) If the project maintains a website, include relevant information about the model, the intervention, and the demonstration activities and ensure that the website meets government- or industry-recognized standards for accessibility; and

(d) Ensure that annual progress toward meeting project goals is posted on the project website or university website.

References

Cho, E., Compton, D.L., Gilbert, J.K., Steacy, L.M., Collins, A.A., & Lindström, E.R. (2017). Development of first-graders' word reading skills: For whom can dynamic assessment tell us more? Journal of Learning Disabilities, 50(1), 95-112.

Fletcher, J. (2017, September). Understanding dyslexia: A scientific approach. Paper presented at the National Science Foundation Conference on STEM Education, Learning Disabilities, and the Science of Dyslexia, Arlington, VA.

Fuchs, D., Compton, D.L., Fuchs, L.S., Bryant, J., & Davis, G.N. (2008). Making “secondary intervention” work in a three-tier responsiveness-to-intervention model: Findings from the first-grade longitudinal reading study of the National Research Center on Learning Disabilities. Reading and Writing, 21(4), 413-436.

Fuchs, D., Compton, D.L., Fuchs, L.S., Bryant, V.J., Hamlett, C.L., & Lambert, W. (2012). First-grade cognitive abilities as long-term predictors of reading comprehension and disability status. Journal of Learning Disabilities, 45(3), 217-231.

Gersten, R., Compton, D., Connor, C.M., Dimino, J., Santoro, L., Linan-Thompson, S., and Tilly, W.D. (2009). Assisting students struggling with reading: Response to intervention and multi-tier intervention for reading in the primary grades. A practice guide. (NCEE 2009-4045). Washington, DC: National Center for Education Evaluation and Regional Assistance, Institute of Education Sciences, U.S. Department of Education. Retrieved from https://ies.ed.gov/ncee/wwc/Docs/PracticeGuide/rti_reading_pg_021809.pdf.

National Center on Improving Literacy. (2018). State of Dyslexia. Retrieved from https://improvingliteracy.org/state-of-dyslexia.

Petscher, Y., Fien, H., Stanley, C., Gearin, B., Gaab, N., Fletcher, J.M., & Johnson, E. (2019). Screening for Dyslexia. Retrieved from https://improvingliteracy.org/sites/improvingliteracy1.uoregon.edu/files/whitepaper/screening-for-dyslexia.pdf.

Sittner Bridges, M., & Catts, H.W. (2011). The use of a dynamic screening of phonological awareness to predict risk for reading disabilities in kindergarten children. Journal of Learning Disabilities, 44(4), 330-338.

U.S. Department of Health and Human Services, National Institute of Neurological Disorders and Stroke Dyslexia Information Page. (2018, June 12). Retrieved from www.ninds.nih.gov/Disorders/All-Disorders/Dyslexia-Information-Page.

Waiver of Proposed Rulemaking: Under the Administrative Procedure Act (APA) (5 U.S.C. 553) the Department generally offers interested parties the opportunity to comment on proposed priorities and other requirements. Section 681(d) of IDEA, however, makes the public comment requirements of the APA inapplicable to the absolute priority and related definitions in this notice.

Program Authority: 20 U.S.C. 1463 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Cooperative agreements.

Estimated Available Funds: $1,200,000.

Contingent upon the availability of funds and the quality of applications, we may make additional awards in FY 2020 from the list of unfunded applications from this competition.

Estimated Range of Awards: $375,000 to $400,000 per year.

Estimated Average Size of Awards: $400,000 per year.

Maximum Award: We will not make an award exceeding $400,000 for a single budget period of 12 months.

Estimated Number of Awards: 3.

Note: The Department is not bound by any estimates in this notice.

Project Period: Up to 48 months.

III. Eligibility Information

1. Eligible Applicants: SEAs; LEAs, including charter schools that are considered LEAs under State law; IHEs; other public agencies; private nonprofit organizations; outlying areas; freely associated States; Indian Tribes or Tribal organizations; and for-profit organizations.

2. Cost Sharing or Matching: This program does not require cost sharing or matching.

3. Subgrantees: A grantee under this competition may not award subgrants to entities to directly carry out project activities described in its application. Under 34 CFR 75.708(e), a grantee may contract for supplies, equipment, and other services in accordance with 2 CFR part 200.

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This competition is subject to Executive Order 12372 and the regulations in 34 CFR part 79. However, under 34 CFR 79.8(a), we waive intergovernmental review in order to make an award by the end of FY 2019.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 50 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the résumés, the reference list, the letters of support, or the appendices. However, the recommended page limit does apply to all of the application narrative, including all text in charts, tables, figures, graphs, and screen shots.

V. Application Review Information

1. Selection Criteria: The selection criteria for this competition are from 34 CFR 75.210 and are as follows:

(a) Significance (15 points).

(1) The Secretary considers the significance of the proposed project.

(2) In determining the significance of the proposed project, the Secretary considers the following factors:

(i) The potential contribution of the proposed project to increased knowledge or understanding of educational problems, issues, or effective strategies;

(ii) The extent to which the proposed project is likely to build local capacity to provide, improve, or expand services that address the needs of the target population;

(iii) The importance or magnitude of the results or outcomes likely to be attained by the proposed project, especially improvements in teaching and student achievement; and

(iv) The likely utility of the products (such as information, materials, processes, or techniques) that will result from the proposed project, including the potential for their being used effectively in a variety of other settings.

(b) Quality of the project design (35 points).

(1) The Secretary considers the quality of the design of the proposed project.

(2) In determining the quality of the design of the proposed project, the Secretary considers the following factors:

(i) The extent to which the goals, objectives, and outcomes to be achieved by the proposed project are clearly specified and measurable;

(ii) The extent to which the design of the proposed project includes a thorough, high-quality review of the relevant literature, a high-quality plan for project implementation, and the use of appropriate methodological tools to ensure successful achievement of project objectives;

(iii) The quality of the proposed demonstration design and procedures for documenting project activities and results;

(iv) The extent to which the design for implementing and evaluating the proposed project will result in information to guide possible replication of project activities or strategies, including information about the effectiveness of the approach or strategies employed by the project; and

(v) The extent to which performance feedback and continuous improvement are integral to the design of the proposed project.

(c) Adequacy of resources and quality of the management plan (25 points).

(1) The Secretary considers the adequacy of resources and the quality of the management plan for the proposed project.

(2) In determining the adequacy of resources and the quality of the management plan for the proposed project, the Secretary considers the following factors:

(i) The adequacy of support, including facilities, equipment, supplies, and other resources, from the applicant organization or the lead applicant organization;

(ii) The relevance and demonstrated commitment of each partner in the proposed project to the implementation and success of the project;

(iii) The extent to which the time commitments of the project director and principal investigator and other key project personnel are appropriate and adequate to meet the objectives of the proposed project;

(iv) How the applicant will ensure that a diversity of perspectives are brought to bear in the operation of the proposed project, including those of parents, teachers, the business community, a variety of disciplinary and professional fields, recipients or beneficiaries of services, or others, as appropriate;

(v) The adequacy of the management plan to achieve the objectives of the proposed project on time and within budget, including clearly defined responsibilities, timelines, and milestones for accomplishing project tasks; and

(vi) The adequacy of mechanisms for ensuring high-quality products and services from the proposed project.

(d) Quality of the project evaluation (25 points).

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation will provide performance feedback and permit periodic assessment of progress toward achieving intended outcomes;

(iii) The extent to which the methods of evaluation provide for examining the effectiveness of project implementation strategies;

(iv) The extent to which the evaluation will provide guidance about effective strategies suitable for replication or testing in other settings; and

(v) The extent to which the methods of evaluation include the use of objective performance measures that are clearly related to the intended outcomes of the project and will produce quantitative and qualitative data to the extent possible.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection, analysis, and reporting. In this case the Secretary establishes a data collection period.

5. Performance Measures: Under the Government Performance and Results Act of 1993, the Department has established a set of performance measures, including long-term measures, that are designed to yield information on various aspects of the effectiveness and quality of the Model Demonstration Projects to Identify Students with Dyslexia in Elementary School under the Technical Assistance and Dissemination to Improve Services and Results for Children With Disabilities program. These measures are:

• Current Program Performance Measure: The percentage of effective evidence-based program models developed by model demonstration projects that are promoted to States and their partners through the Technical Assistance and Dissemination Network.

• Pilot Program Performance Measure: The percentage of effective program models developed by model demonstration projects that are sustained beyond the life of the model demonstration project.

The current program performance measure and the pilot program performance measure apply to projects funded under this competition, and grantees are required to submit data on these measures as directed by OSEP.

Grantees will be required to report information on their project's performance in annual and final performance reports to the Department (34 CFR 75.590).

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW, Room 5074A, Potomac Center Plaza, Washington, DC 20202-2500. Telephone: (202) 245-7363. If you use a TDD or a TTY, call the FRS, toll free, at 1-800-877-8339.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Johnny W. Collett,
Assistant Secretary for Special Education and Rehabilitative Services.

[FR Doc. 2019-14270 Filed 7-3-19; 8:45 am]

BILLING CODE 4000-01-P